DEPARTMENT OF HOMELAND SECURITY

Coast Guard

[USCG-2010-0586]

National Maritime Security Advisory Committee; Meeting

AGENCY: Coast Guard, DHS.

ACTION: Notice of meeting.

SUMMARY: The National Maritime Security Advisory Committee (NMSAC) will meet in Washington, DC to discuss various issues relating to national maritime security. This meeting will be open to the public.

DATES: The Committee will meet on Tuesday, July 20, 2010 from 9 a.m. to 4 p.m. This meeting may close early if all business is finished. Written material and requests to make oral presentations should reach the Coast Guard on or before July 13, 2010. Requests to have a copy of your material distributed to each member of the committee should reach the Coast Guard on or before July 13, 2010.

ADDRESSES: The Committee will meet at Coast Guard Headquarters, Room 4202, 2100 2nd Street, SW., Washington, DC 20593. Additionally, this meeting will be broadcast via a web enabled interactive online format. Send written material and requests to make oral presentations to Mr. Ryan Owens, Assistant Designated Federal Officer (ADFO) of the National Maritime Security Advisory Committee, 2100 2nd Street SW., Stop 7581; Washington, DC 20593-7581. You may also e-mail material to ryan.f.owens@uscg.mil. This notice may be viewed in our online docket, USCG-2010-0586, at http://www.regulations.gov.

FOR FURTHER INFORMATION CONTACT: Mr. Ryan Owens, ADFO of NMSAC, telephone 202-372-1108 or ryan.f.owens@uscg.mil.

SUPPLEMENTARY INFORMATION: Notice of this meeting is given under the Federal Advisory Committee Act, 5 U.S.C. App. (Pub. L. 92-463).

Agenda of Public Meeting

The agenda for the Public part of the May 4 Committee meeting is as follows:

(1) TWIC Update.

(2) Discussion on creation of a National Infrastructure Protection Plan (NIPP) Sub-Committee.

(3) DHS Global Supply Chain Security Strategy initiative.

(4) Maritime Transportation Security Act update.

(5) Update from CDC Strategy Working Group.

(6) Update on the Small Vessel Security Strategy.

Procedural

This meeting is open to the public for the morning session and will also be conducted via an online meeting format. Please note that the public portion of the meeting may close early if all business is finished. Seating is very limited, and members of the public will require additional screening and an escort while in Coast Guard Headquarters. Members of the public wishing to attend should register with Mr. Ryan Owens, ADFO of NMSAC, telephone 202-372-1108 or ryan.f.owens@uscg.mil no later than July 13, 2010. Additionally, if you would like to participate in this meeting via the online Web format, please log onto https://connect.hsin.gov/uscgnmsac/ and follow the online instructions to register for this meeting. At the Chair's discretion, members of the public may make oral presentations during the public portion of the meeting. If you would like to make an oral presentation at the public portion of the meeting, please notify the ADFO no later than Tuesday, July 13, 2010. Written material for distribution at a meeting should reach the Coast Guard no later than Tuesday, July 13, 2010. If you would like a copy of your material distributed to each member of the committee in advance of a meeting, please submit 25 copies to the ADFO no later than Tuesday, July 13, 2010.

Information on Services for Individuals With Disabilities

For information on facilities or services for individuals with disabilities or to request special assistance at the meeting, contact the ADFO as soon as possible.

Dated: June 28, 2010.
K.C. Kiefer,
Captain, U.S. Coast Guard Chief, Office of Port and Facility Activities, Designated Federal Official, NMSAC.

[FR Doc. 2010-16112 Filed 7-1-10; 8:45 am]

BILLING CODE 9110-04-P